SURFACE TRANSPORTATION BOARD

[Docket No. FD 36414]

Camp Chase Rail, LLC—Acquisition and Operation Exemption—Camp Chase Railway Company, LLC

Camp Chase Rail, LLC (Camp Chase Rail), a noncarrier, has filed a verified notice of exemption under 49 CFR 1150.31 to acquire from Camp Chase Railway Company, LLC (CCRY), and operate approximately 14 miles of rail line between milepost 141.4 in Columbus, Ohio, and milepost 155.4 in Lilly Chapel, Ohio (the Line).

Camp Chase Rail states that it is a newly established subsidiary of MB Rail IB, LLC (MB Rail), formed to acquire and operate the Line. The acquisition is part of a larger transaction between MB Rail and Indiana Boxcar Corporation (IBC) under which MB Rail will acquire all of the equity in two railroads currently owned by IBC; MB Rail's subsidiary, Camp Chase Rail, will acquire the Line and other assets of a third IBC railroad, CCRY; and another MB Rail subsidiary, Youngstown & Southeastern Railroad, LLC (YSR), will acquire a rail line and other assets of a fourth IBC railroad, Youngstown & Southeastern Railroad Co. (Y&S).

This transaction is related to two concurrently filed verified notices of exemption: MB Rail IB, LLC—Acquisition & Continuance in Control Exemption—Chesapeake & Indiana Railroad, Vermilion Valley Railroad, Camp Chase Rail, & Youngstown & Southeastern Railroad, Docket No. FD 36413, in which MB Rail seeks, among other things, to continue in control of Camp Chase Rail upon Camp Chase Rail's becoming a Class III rail carrier; and Youngstown & Southeastern Railroad, LLC—Acquisition & Operation Exemption—Youngstown & Southeastern Railroad Co., Docket No. FD 36415, in which YSR seeks to acquire the rail line of Y&S.

Camp Chase Rail certifies that its projected annual revenues as a result of this transaction will not exceed $5 million or the threshold required to qualify as a Class III carrier. Camp Chase Rail also certifies that the proposed acquisition and operation of the Line do not involve a provision or agreement that may limit future interchange with a third-party connecting carrier.

The transaction may be consummated on or after July 15, 2020, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than July 8, 2020 (at least seven days before the exemption becomes effective).

All pleadings, referring to Docket No. FD 36414, must be filed with the Surface Transportation Board either via e-filing or in writing addressed to 395 E Street SW, Washington, DC 20423-0001. In addition, a copy of each pleading must be served on Camp Chase Rail's representative, Charles H. Montange, Law Offices of Charles H. Montange, 426 NW 162nd Street, Seattle, WA 98177.

According to Camp Chase Rail, this action is categorically excluded from environmental review under 49 CFR 1105.6(c) and from historic reporting requirements under 49 CFR 1105.8(b).

Board decisions and notices are available at www.stb.gov.

Decided: June 25, 2020.
By the Board, Allison C. Davis, Director, Office of Proceedings.
Regena Smith-Bernard,
Clearance Clerk.

[FR Doc. 2020-14170 Filed 6-30-20; 8:45 am]

BILLING CODE 4915-01-P